DEPARTMENT OF ENERGY

Federal Energy Regulatory Commission

Combined Notice of Filings #3

Take notice that the Commission received the following electric rate filings:

Docket Numbers: ER10-1484-015.

Applicants: Shell Energy North America (US), L.P.

Description: Updated Market Power Analysis for the Northeast Region of Shell Energy North America (US), L.P.

Filed Date: 6/29/17.

Accession Number: 20170629-5277.

Comments Due: 5 p.m. ET 8/28/17.

Docket Numbers: ER10-2718-027; ER10-2719-026; ER14-2498-006; ER14-2500-006.

Applicants: Cogen Technologies Linden Venture, L.P., East Coast Power Linden Holding, L.L.C., Newark Energy Center, LLC, EIF Newark, LLC.

Description: Joint Triennial MBR Update and Notice of Non-Material Change in Status of Cogen Technologies Linden Venture, L.P., et al.

Filed Date: 6/29/17.

Accession Number: 20170629-5281.

Comments Due: 5 p.m. ET 8/28/17.

Docket Numbers: ER10-2959-011; ER10-2934-010.

Applicants: Chambers Cogeneration, Limited Partnership, Logan Generating Company, LP.

Description: MBR Triennial Filing of Chambers Cogeneration, Limited Partnership, et al.

Filed Date: 6/29/17.

Accession Number: 20170629-5283.

Comments Due: 5 p.m. ET 8/28/17.

Docket Numbers: ER10-3195-005; ER10-3194-005.

Applicants: MATEP Limited Partnership, MATEP LLC.

Description: Updated Market Power Analysis for the Northeast Region of MATEP Limited Partnership, et al.

Filed Date: 6/29/17.

Accession Number: 20170629-5280.

Comments Due: 5 p.m. ET 8/28/17.

Docket Numbers: ER11-2041-012; ER10-3193-011; ER11-2042-012.

Applicants: Brooklyn Navy Yard Cogeneration Partners, L.P., Innovative Energy Systems, LLC, Seneca Energy II, LLC.

Description: Joint MBR Triennial and Notice of Non-Material Change in Status of Innovative Energy Systems, LLC, et al.

Filed Date: 6/29/17.

Accession Number: 20170629-5278.

Comments Due: 5 p.m. ET 8/28/17.

Docket Numbers: ER17-1556-001.

Applicants: Midcontinent Independent System Operator, Inc.

Description: Tariff Amendment: 2017-06-30_Deficiency Response to Data Sharing with Natural Gas Pipelines to be effective 7/5/2017.

Filed Date: 6/30/17.

Accession Number: 20170630-5290.

Comments Due: 5 p.m. ET 7/21/17.

Docket Numbers: ER17-1986-000.

Applicants: Krayn Wind LLC.

Description: § 205(d) Rate Filing: Market-Based Rate Tariff Updates to be effective 8/28/2017.

Filed Date: 6/30/17.

Accession Number: 20170630-5212.

Comments Due: 5 p.m. ET 7/21/17.

Docket Numbers: ER17-1987-000.

Applicants: Mustang Hills, LLC.

Description: § 205(d) Rate Filing: Market-Based Rate Tariff Updates to be effective 8/28/2017.

Filed Date: 6/30/17.

Accession Number: 20170630-5213.

Comments Due: 5 p.m. ET 7/21/17.

Docket Numbers: ER17-1988-000.

Applicants: Patton Wind Farm, LLC.

Description: § 205(d) Rate Filing: Market-Based Rate Tariff Updates to be effective 8/28/2017.

Filed Date: 6/30/17.

Accession Number: 20170630-5214.

Comments Due: 5 p.m. ET 7/21/17.

Docket Numbers: ER17-1989-000.

Applicants: Bishop Hill Energy II LLC.

Description: Compliance filing: Bishop Hill Energy II Order No. 819 Compliance Filing to be effective 7/1/2017.

Filed Date: 6/30/17.

Accession Number: 20170630-5215.

Comments Due: 5 p.m. ET 7/21/17.

Docket Numbers: ER17-1990-000.

Applicants: Vulcan/BN Geothermal Power Company.

Description: Compliance filing: Vulcan-BN Geothermal Order No. 819 Compliance Filing to be effective 7/1/2017.

Filed Date: 6/30/17.

Accession Number: 20170630-5216.

Comments Due: 5 p.m. ET 7/21/17.

Docket Numbers: ER17-1991-000.

Applicants: Cordova Energy Company LLC.

Description: Compliance filing: Cordova Order No. 819 Compliance Filing to be effective 7/1/2017.

Filed Date: 6/30/17.

Accession Number: 20170630-5217.

Comments Due: 5 p.m. ET 7/21/17.

Docket Numbers: ER17-1992-000.

Applicants: Pinyon Pines Wind I, LLC.

Description: Compliance filing: Pinyon Pines I Order No. 819 Compliance Filing to be effective 7/1/2017.

Filed Date: 6/30/17.

Accession Number: 20170630-5218.

Comments Due: 5 p.m. ET 7/21/17.

Docket Numbers: ER17-1993-000.

Applicants: Pinyon Pines Wind II, LLC.

Description: Compliance filing: Pinyon Pines II Order No. 819 Compliance Filing to be effective 7/1/2017.

Filed Date: 6/30/17.

Accession Number: 20170630-5219.

Comments Due: 5 p.m. ET 7/21/17.

Docket Numbers: ER17-1994-000.

Applicants: Salton Sea Power Generation Company.

Description: Compliance filing: Salton Sea Power Gen Order No. 819 Compliance Filing to be effective 7/1/2017.

Filed Date: 6/30/17.

Accession Number: 20170630-5220.

Comments Due: 5 p.m. ET 7/21/17.

Docket Numbers: ER17-1995-000.

Applicants: Salton Sea Power L.L.C.

Description: Compliance filing: Salton Sea Power LLC Order No. 819 Compliance Filing to be effective 7/1/2017.

Filed Date: 6/30/17.

Accession Number: 20170630-5223.

Comments Due: 5 p.m. ET 7/21/17.

Docket Numbers: ER17-1996-000.

Applicants: Solar Star California XIX, LLC.

Description: Compliance filing: Solar Star XIX Order No. 819 Compliance Filing to be effective 7/1/2017.

Filed Date: 6/30/17.

Accession Number: 20170630-5229.

Comments Due: 5 p.m. ET 7/21/17.

Docket Numbers: ER17-1997-000.

Applicants: Solar Star California XX, LLC.

Description: Compliance filing: Solar Star XX Order No. 819 Compliance Filing to be effective 7/1/2017.

Filed Date: 6/30/17.

Accession Number: 20170630-5230.

Comments Due: 5 p.m. ET 7/21/17.

Docket Numbers: ER17-1998-000.

Applicants: Topaz Solar Farms LLC.

Description: Compliance filing: Topaz Solar Farms Order No. 819 Compliance Filing to be effective 7/1/2017.

Filed Date: 6/30/17.

Accession Number: 20170630-5231.

Comments Due: 5 p.m. ET 7/21/17.

Docket Numbers: ER17-1999-000.

Applicants: CalEnergy, LLC.

Description: Compliance filing: CalEnergy Order No. 819 Compliance Filing to be effective 7/1/2017.

Filed Date: 6/30/17.

Accession Number: 20170630-5232.

Comments Due: 5 p.m. ET 7/21/17.

Docket Numbers: ER17-2000-000.

Applicants: CE Leathers Company.

Description: Compliance filing: CE Leathers Order No. 819 Compliance Filing to be effective 7/1/2017.

Filed Date: 6/30/17.

Accession Number: 20170630-5233.

Comments Due: 5 p.m. ET 7/21/17.

Docket Numbers: ER17-2001-000.

Applicants: Del Ranch Company.

Description: Compliance filing: Del Ranch Order No. 819 Compliance Filing to be effective 7/1/2017.

Filed Date: 6/30/17.

Accession Number: 20170630-5234.

Comments Due: 5 p.m. ET 7/21/17.

Docket Numbers: ER17-2002-000.

Applicants: Elmore Company.

Description: Compliance filing: Elmore Order No. 819 Compliance Filing to be effective 7/1/2017.

Filed Date: 6/30/17.

Accession Number: 20170630-5235.

Comments Due: 5 p.m. ET 7/21/17.

Docket Numbers: ER17-2003-000.

Applicants: Fish Lake Power LLC.

Description: Compliance filing: Fish Lake Order No. 819 Compliance Filing to be effective 7/1/2017.

Filed Date: 6/30/17.

Accession Number: 20170630-5236.

Comments Due: 5 p.m. ET 7/21/17.

Docket Numbers: ER17-2004-000.

Applicants: Yuma Cogeneration Associates.

Description: Compliance filing: Yuma Cogeneration Order No. 819 Compliance Filing to be effective 7/1/2017.

Filed Date: 6/30/17.

Accession Number: 20170630-5237.

Comments Due: 5 p.m. ET 7/21/17.

Docket Numbers: ER17-2005-000.

Applicants: Marshall Wind Energy LLC.

Description: Compliance filing: Marshall Wind Order No. 819 Compliance Filing to be effective 7/1/2017.

Filed Date: 6/30/17.

Accession Number: 20170630-5238.

Comments Due: 5 p.m. ET 7/21/17.

Docket Numbers: ER17-2006-000.

Applicants: Grande Prairie Wind, LLC.

Description: Compliance filing: Grande Praire Wind Order No. 819 Compliance Filing to be effective 7/1/2017.

Filed Date: 6/30/17.

Accession Number: 20170630-5239.

Comments Due: 5 p.m. ET 7/21/17.

Docket Numbers: ER17-2007-000.

Applicants: PacifiCorp.

Description: Compliance filing: PacifiCorp Order No. 819 Compliance Filing to be effective 7/1/2017.

Filed Date: 6/30/17.

Accession Number: 20170630-5240.

Comments Due: 5 p.m. ET 7/21/17.

Docket Numbers: ER17-2008-000.

Applicants: Pure Energy USA, LLC.

Description: Baseline eTariff Filing: Market-Based Rate Tariff Application to be effective 7/1/2017.

Filed Date: 6/30/17.

Accession Number: 20170630-5245.

Comments Due: 5 p.m. ET 7/21/17.

Docket Numbers: ER17-2009-000.

Applicants: Tucson Electric Power Company.

Description: § 205(d) Rate Filing: Concurrence to APS RS No. 288 (TEP RS No. 337) to be effective 8/2/2017.

Filed Date: 6/30/17.

Accession Number: 20170630-5256.

Comments Due: 5 p.m. ET 7/21/17.

Docket Numbers: ER17-2010-000.

Applicants: Arizona Public Service Company.

Description: § 205(d) Rate Filing: Service Agreement Nos. 174 and 359 to be effective 6/1/2017.

Filed Date: 6/30/17.

Accession Number: 20170630-5258.

Comments Due: 5 p.m. ET 7/21/17.

Docket Numbers: ER17-2011-000.

Applicants: Castleton Commodities Merchant Trading L.P.

Description: Market-Based Triennial Review Filing: Triennial Filing 2017 to be effective 7/1/2017.

Filed Date: 6/30/17.

Accession Number: 20170630-5260.

Comments Due: 5 p.m. ET 8/29/17.

Docket Numbers: ER17-2012-000.

Applicants: Rensselaer Generating LLC.

Description: Market-Based Triennial Review Filing: Triennial Filing 2017 to be effective 7/1/2017.

Filed Date: 6/30/17.

Accession Number: 20170630-5262.

Comments Due: 5 p.m. ET 8/29/17.

Docket Numbers: ER17-2013-000.

Applicants: Collegiate Clean Energy, LLC.

Description: Market-Based Triennial Review Filing: 2017 Northeast Triennial to be effective 7/1/2017.

Filed Date: 6/30/17.

Accession Number: 20170630-5267.

Comments Due: 5 p.m. ET 8/29/17.

Docket Numbers: ER17-2014-000.

Applicants: Ingenco Wholesale Power, L.L.C.

Description: Market-Based Triennial Review Filing: Triennial Filing 2017 to be effective 7/1/2017.

Filed Date: 6/30/17.

Accession Number: 20170630-5268.

Comments Due: 5 p.m. ET 8/29/17.

Docket Numbers: ER17-2015-000.

Applicants: Roseton Generating LLC.

Description: Market-Based Triennial Review Filing: NE Triennial 2017 to be effective 7/1/2017.

Filed Date: 6/30/17.

Accession Number: 20170630-5272.

Comments Due: 5 p.m. ET 8/29/17.

Docket Numbers: ER17-2016-000.

Applicants: Black River Hydroelectric, LLC.

Description: Market-Based Triennial Review Filing: Northeast Triennial and Tariff Revisions to be effective 7/1/2017.

Filed Date: 6/30/17.

Accession Number: 20170630-5279.

Comments Due: 5 p.m. ET 8/29/17.

Docket Numbers: ER17-2017-000.

Applicants: All Dams Generation, LLC.

Description: Market-Based Triennial Review Filing: Northeast Triennial & Tariff Revisions to be effective 7/1/2017.

Filed Date: 6/30/17.

Accession Number: 20170630-5280.

Comments Due: 5 p.m. ET 8/29/17.

Docket Numbers: ER17-2018-000.

Applicants: Arizona Public Service Company.

Description: Tariff Cancellation: Cancellation of Service Agreement No. 51741 to be effective 8/30/2017.

Filed Date: 6/30/17.

Accession Number: 20170630-5281.

Comments Due: 5 p.m. ET 7/21/17.

Docket Numbers: ER17-2019-000.

Applicants: Lake Lynn Generation, LLC.

Description: Market-Based Triennial Review Filing: Northeast Triennial and Tariff Revisions to be effective 7/1/2017.

Filed Date: 6/30/17.

Accession Number: 20170630-5285.

Comments Due: 5 p.m. ET 8/29/17.

Docket Numbers: ER17-2020-000.

Applicants: Southwest Power Pool, Inc.

Description: § 205(d) Rate Filing: South Central MCN LLC Formula Rate to be effective 12/31/9998.

Filed Date: 6/30/17.

Accession Number: 20170630-5287.

Comments Due: 5 p.m. ET 7/21/17.

Docket Numbers: ER17-2021-000.

Applicants: Wisconsin Electric Power Company.

Description: § 205(d) Rate Filing: Wisconsin Electric FERC Electric Tariff Volume No. 9—2017 to be effective 9/1/2017.

Filed Date: 6/30/17.

Accession Number: 20170630-5288.

Comments Due: 5 p.m. ET 7/21/17.

Docket Numbers: ER17-2022-000.

Applicants: PE Hydro Generation, LLC.

Description: Market-Based Triennial Review Filing: Northeast Triennial & Tariff Revisions to be effective 7/1/2017.

Filed Date: 6/30/17.

Accession Number: 20170630-5289.

Comments Due: 5 p.m. ET 8/29/17.

Docket Numbers: ER17-2023-000.

Applicants: National Grid Generation LLC.

Description: § 205(d) Rate Filing: Annual Reset of Pension and OPEB Expenses to be effective 1/1/2017.

Filed Date: 6/30/17.

Accession Number: 20170630-5298.

Comments Due: 5 p.m. ET 7/21/17.

Docket Numbers: ER17-2024-000.

Applicants: Nevada Power Company.

Description: Compliance filing: Market-Based Rate Tariff, Volume No. 11 Order 819 Compliance to be effective 7/1/2017.

Filed Date: 6/30/17.

Accession Number: 20170630-5307.

Comments Due: 5 p.m. ET 7/21/17.

Docket Numbers: ER17-2025-000.

Applicants: Sierra Pacific Power Company.

Description: Compliance filing: Market-Based Rate Tariff Vol 7 Order 819 Compliance to be effective 7/1/2017.

Filed Date: 6/30/17.

Accession Number: 20170630-5311.

Comments Due: 5 p.m. ET 7/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2017.
Kimberly D. Bose,
Secretary.

[FR Doc. 2017-14332 Filed 7-7-17; 8:45 am]

BILLING CODE 6717-01-P